DEPARTMENT OF ENERGY

National Electric Transmission Congestion Study

AGENCY: Office of Electricity Delivery and Energy Reliability (OE), Department of Energy.

ACTION: Notice of Availability of the National Electric Transmission Congestion Study and Request for Comments.

SUMMARY: The Department of Energy (the “Department”) gives notice that it has issued a National Electric Transmission Congestion Study (the “Congestion Study”) and is seeking comments on the study and on the possible designation of national interest electric transmission corridors (National Corridors). The Congestion Study, including request for comments, is available at http://www.oe.energy.gov.

DATES: Written comments may be filed electronically in MS Word and PDF formats. Comments regarding the Congestion Study should be e-mailed to congestionstudy.comments@hq.doe.gov. Comments regarding the designations should be e-mailed to EPACT1221@hq.doe.gov. Comments should be received no later than 5 p.m. EDT October 10, 2006. Also, comments can be filed by mail at the address listed below.

ADDRESSES: Written comments via mail should be submitted to: Office of Electricity Delivery and Energy Reliability, OE-10, Attention: 1221 Comments, U.S. Department of Energy, Forrestal Building, Room 6H050, 1000 Independence Avenue, SW., Washington, DC 20585.

Note: U.S. Postal Service mail sent to the Department continues to be delayed by several weeks due to security screening. Electronic submission is therefore encouraged. Copies of written comments received and other relevant documents and information may be reviewed at http://www.oe.energy.gov.

FOR FURTHER INFORMATION CONTACT: Ms. Poonum Agrawal, Office Electricity Delivery and Energy Reliability, OE-10, U.S. Department of Energy, 1000 Independence Avenue, SW., Washington, DC 20585, (202) 586-1411, poonum.agrawal@hq.doe.gov, or Lot Cooke, Office of General Counsel, GC-76, 1000 Independence Avenue, SW., Washington, DC 20585, (202) 586-0503, lot.cooke@hq.doe.gov.

SUPPLEMENTARY INFORMATION: Section 1221(a) of the Energy Policy Act of 2005 directed the Secretary of Energy to conduct a nationwide study of electric transmission congestion. The Congestion Study was to be completed within one year of enactment of the Energy Policy Act and subsequently updated every three years. Based upon the Congestion Study, the Secretary may designate any geographic area experiencing electric energy transmission capacity constraints or congestion that adversely affects consumers as a National Corridor.

The first Congestion Study has been completed and issued by the Secretary of Energy. The study is available for review at the website listed above. Based on the study, the Department found three classes of congestion areas that merit further federal attention: Critical Congestion Areas, Congestion Areas of Concern, and Conditional Congestion Areas. These areas are identified and discussed in Section 5 of the study. The Department is considering designating National Corridors in the areas identified as Critical Congestion Areas.

The Department is seeking comments from interested persons on the National Electric Transmission Congestion Study, on future steps for identifying and addressing electric transmission congestion, and on the possible designation of National Corridors in Critical Congestion Areas. Section 6 of the study details the comments the Department is seeking.

Issued in Washington, DC on August 2, 2006.
Kevin Kolevar,
Director, Office of Electricity Delivery, and Energy Reliability.

[FR Doc. E6-12852 Filed 8-7-06; 8:45 am]

BILLING CODE 6450-01-P